FEDERAL ELECTION COMMISSION

11 CFR Part 300

[Notice 2010-03]

Participation by Federal Candidates and Officeholders at Non-Federal Fundraising Events

AGENCY: Federal Election Commission.

ACTION: Change of public hearing date.

SUMMARY: On December 7, 2009, the Federal Election Commission published a notice of proposed rulemaking relating to participation by Federal candidates and officeholders in non-Federal fundraising events, with a public hearing scheduled for March 10, 2010 at 10 a.m. The Commission has rescheduled the public hearing for March 16, 2010 at 10 a.m. The comment periods for this rulemaking have not changed.

DATES: The hearing will be held on March 16, 2010 and will begin at 10 a.m. The initial comment period ended on Monday, February 8, 2010. The reply comment period will end on Monday, February 22, 2010.

ADDRESSES: The hearing will be held in the Commission's ninth floor meeting room, 999 E Street, NW., Washington, DC.

FOR FURTHER INFORMATION CONTACT: Ms. Amy L. Rothstein, Assistant General Counsel, Mr. David C. Adkins, or Mr. Neven F. Stipanovic, Attorneys, 999 E Street, NW., Washington, DC 20463, (202) 694-1650 or (800) 424-9530.

SUPPLEMENTARY INFORMATION: On December 7, 2009, the Federal Election Commission published a notice of proposed rulemaking (“NPRM”) relating to participation by Federal candidates and officeholders in non-Federal fundraising events. See 74 FR 64016 (December 7, 2009). The NPRM stated that the Commission would hold a hearing on the proposed rules on March 10, 2010 at 10 a.m. The purpose of this Notice is to announce that the Commission has changed the date of the public hearing to March 16, 2010 at 10 a.m. Reply comments will still be due by February 22, 2010.

Individuals who plan to attend the public hearing and require special assistance, such as sign language interpretation or other reasonable accommodations, should contact the Commission Secretary, at (202) 694-1040, at least 72 hours prior to the hearing date.

On behalf of the Commission,
Dated: February 18, 2010.
Matthew S. Petersen,
Chairman, Federal Election Commission.

[FR Doc. 2010-3639 Filed 2-23-10; 8:45 am]

BILLING CODE 6715-01-P